DEPARTMENT OF JUSTICE

Antitrust Division

Notice Pursuant to the National Cooperative Research and Production Act of 1993—Southwest Research Institute: Joint Industry Project for Fluid Properties Meter Development and Support

Correction

In notice document 05-1986 appearing on pages 5487-5488 in the issue of Wednesday, February 2, 2005, make the following corrections:

1. On page 5488, in the first column, second through third line, “SwRI: Fluid Properties Meter” should read “Southwest Research Institute”.

2. On the same page, in the same column, after the nineteenth line, the following paragraph should be added: “Membership in this group research project remains open, and participants intend to file additional written notification disclosing all changes in membership or planned activities.”

Dorothy B. Fountain,
Deputy Director of Operations Antitrust Division.

[FR Doc. 05-9524 Filed 5-11-05; 8:45 am]

BILLING CODE 4410-11-M